ENVIRONMENTAL PROTECTION AGENCY

[EPA-HQ-OPP-2010-0014; FRL-8876-1]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a November 10, 2010 Federal Register Notice of Receipt of Requests from the registrants listed in Table 2 of Unit II. to voluntarily cancel these product registrations. In the November 10, 2010 notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective June 15, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 48 products registered under FIFRA section 3. These registrations are listed in sequence by registration number in Table 1 of this unit.

Table 1—Product Cancellations
EPA registration number | Product name | Active ingredients
000264-00499 | Rootone F Brand Rooting Hormone | 1-Naphthaleneacetamide Thiram
000432-01454 | Merit 240 SC Insecticide | Imidacloprid
000707-00302 | Cunilate 2002 | Copper, bis(8-quinolinolato-N1, O8)-
001475-00159 | Willert Mosquito Coils | Bioallethrin
001529-00054 | Nuosept 91T | Grotan
002517-00006 | Double Duty Cat Flea & Tick Spray | Pyrethrins Piperonyl butoxide MGK 264
002517-00034 | Sergeant's Foam 'N Comb Dry Shampoo for Dogs and Cats | Pyrethrins Piperonyl butoxide
002517-00099 | Pyrethroid W.B. Concentrate | Permethrin
002517-00104 | Preventic L.A. Flea and Tick Spray for Dogs | Permethrin
002517-00105 | Natura Flea & Tick Collar for Dogs and Cats | Permethrin
002517-00108 | Permethrin- IGR #1 Flea and Tick Spray for Dogs | Permethrin Pyriproxyfen
002517-00113 | Permethrin-Pyriproxifen Residual Shampoo for Dogs #2 | Permethrin Pyriproxyfen
002829-00042 | Socci 3500 WP | Copper, bis(8-quinolinolato-N1, O8)-
002829-00044 | Cunilate 2174-NO | Copper, bis(8-quinolinolato-N1, O8)-
002829-00049 | Socci 3500 | Copper, bis(8-quinolinolato-N1, O8)-
002829-00082 | Vinyzene BP-5 | 10, 10′-Oxybisphenoxarsine
002829-00112 | Cunilate 2419-75 | Copper, bis(8-quinolinolato-N1, O8)-
002829-00135 | Nytek 10WP | Copper, bis(8-quinolinolato-N1, O8)-
002829-00136 | Nytek 10 | Copper, bis(8-quinolinolato-N1, O8)-
002829-00137 | Nytek WD | Copper, bis(8-quinolinolato-N1, O8)-
005905-00066 | MSMA Plus | MSMA (and salts)
005905-00162 | Helena Brand MSMA High Concentrate | MSMA (and salts)
005905-00164 | MSMA Plus* H.C. | MSMA (and salts)
006218-00041 | Summit Sumithrin Greenhouse Spray | Phenothrin
006218-00046 | Summit Sumithrin Greenhouse Aerosol | MGK 264 Phenothrin
009630-00004 | 6% Copper Nap-All | Copper naphthenate
009630-00005 | M-Gard S120 | Copper naphthenate
009630-00006 | 8% Zinc Nap-All | Zinc naphthenate
009630-00007 | Zinc Hydro-Nap | Zinc naphthenate
009630-00010 | M-Gard W550 | Zinc naphthenate
009630-00012 | M-Gard S520 | Copper naphthenate
009630-00021 | M-Gard S550 | Zinc naphthenate
040849-00069 | Scorcher Total Vegetation Killer | Prometon
043437-00003 | 8% Zinc Naphthenate | Zinc naphthenate
043437-00004 | 8% Copper Naphthenate | Copper naphthenate
044446-00072 | Areo Blast | Piperonyl butoxide Tetramethrin Permethrin
053853-00002 | Black Flag Fogging Insecticide Formula 2 | Permethrin Piperonyl butoxide Tetramethrin
066330-00313 | Bifenthrin 98% Technical | Bifenthrin
066330-00322 | Sulfometuron Methyl Technical | Sulfometuron
066330-00326 | Sulfometuron 75EG Herbicide | Sulfometuron
074530-00024 | Helm Diquat AG | Diquat dibromide
083071-00001 | Activ-Ox 20 | Sodium chlorite Sodium hypochlorite
084456-00001 | Abamectin Technical | Abamectin
084456-00003 | Abamectin 2% Ornamental Miticide/Insecticide | Abamectin
084456-00004 | Abamectin 2% Miticide/Insecticide | Abamectin
AR980003 | Dylox 80 Turf and Ornamental Insecticide | Trichlorfon
OR050018 | Prometryne 4L Herbicide | Prometryn
WA040010 | Warrior Insecticide with Zenon Technology | lambda-Cyhalothrin

Table 2 of this unit includes the names and addresses of record for all registrants of the products in Table 1 of this unit, in sequence by EPA company number. This number corresponds to the first part of the EPA registration numbers of the products listed in Table 1 of this unit.

Table 2—Registrants of Cancelled Products
EPA company number | Company name and address
264 | Bayer CropScience LP, 2 T.W. Alexander Drive, P.O. Box 12014, Research Triangle Park, NC 27709.
432 | Bayer Environmental Science, 2 T.W. Alexander Drive, P.O. Box 12014, Research Triangle Park, NC 27709.
707 | Rohm & Hass Co., 100 Independence Mall West, Philadelphia, PA 19106-2399.
1475 | Willert Home Products, 4044 Park Ave., St Louis, MO 63110.
1529 | International Specialty Products, 1361 Alps Rd., Wayne, NJ 07470.
2517 | Sergeant's Pet Care Products, Inc., 2625 South 158th Plaza, Omaha, NE 68130-1703.
2829 | Rohm & Hass Co., 100 Independence Mall West, Ste. 1A, Philadelphia, PA 19106-2399.
5905 | Helena Chemical Company, 7664 Moore Road, Memphis, TN 38120.
6218 | Summit Chemical Co., 235 S Kresson St., Baltimore, MD 21224.
9630 | OMG Americas Inc., 811 Sharon Drive, Westlake, OH 44145.
40849 | ZEP Commercial Sales & Service, 1310 Seaboard Industrial Blvd., NW., Atlanta, GA 30318.
43437 | OMG Belleville Limited, 811 Sharon Drive, Cleveland, OH 44145-1522.
44446 | QuestVaptco Corporation, P.O. Box 624, Brenham, TX 77834.
53853 | The Fountainhead Group, Inc., 23 Garden Street, New York Mills, NY 13417.
66330 | Arysta Lifescience North America, LLC, 15401 Weston Parkway, Suite 150, Cary, NC 27513.
74530 | Helm Agro US, Inc., Agent: Ceres International LLC, 1087 Heartsease Drive, West Chester, PA 19382.
83071 | Feedwater Limited, 1415 Crystal Court, Naperville, IL 60563-0142.
84456 | Hebei Veyong Bio-Chemical Company, Ltd., Agent Name: Wagner Regulatory Associates, Inc., 7460 Lancaster Pike, Suite 9, P.O. Box 640, Hockessin, DE 19707-0640.
AR980003 | Arkansas Bait and Ornamental Fish Growers Assn, P.O. Box 509, Lonoke, AR 72086.
OR050018 | Loveland Products, Inc., P.O. Box 1286, Greeley, CO 80632-1286.
WA040010 | Syngenta Crop Protection, Inc., P.O. Box 18300, Greensboro, NC 27419-8300.

III. Summary of Public Comments Received and Agency Response to Comments

During the public comment period provided, EPA received no comments in response to the November 10, 2010 Federal Register notice (75 FR 69070) (FRL-8851-9) announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II are cancelled. The effective date of the cancellations that are the subject of this notice is June 15, 2011. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of November 10, 2010. The comment period closed on May 9, 2011.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until June 15, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

List of Subjects

Environmental protection, Pesticides and pests.

Dated: June 7, 2011.
Richard P. Keigwin, Jr.,
Director, Pesticide Re-evaluation Division, Office of Pesticide Programs.

[FR Doc. 2011-14765 Filed 6-14-11; 8:45 am]

BILLING CODE 6560-50-P